COMMODITY FUTURES TRADING COMMISSION

Sunshine Act Meetings

FEDERAL REGISTER CITATION OF PREVIOUS ANNOUNCEMENT: 89 FR 7381, February 2, 2024.

PREVIOUSLY ANNOUNCED TIME AND DATE OF THE MEETING: 9:00 a.m. EST, Friday, February 9, 2024.

CHANGES IN THE MEETING: The time of the meeting has changed. This meeting will now start at 1:00 p.m. EST. The matters to be considered have also changed. Instead of enforcement and examination matters, as previously announced, only enforcement matters will now be considered. The meeting date, place, and Closed status, as previously announced, remain unchanged.

CONTACT PERSON FOR MORE INFORMATION: Christopher Kirkpatrick, 202-418-5964.

Authority: 5 U.S.C. 552b.

Dated: February 5, 2024.
Christopher Kirkpatrick,
Secretary of the Commission.

[FR Doc. 2024-02635 Filed 2-6-24; 11:15 am]

BILLING CODE 6351-01-P